DEPARTMENT OF THE INTERIOR

Bureau of Reclamation

Freeport Regional Water Project, Sacramento River, CA

AGENCY: Bureau of Reclamation, Interior.

ACTION: Notice of Intent to prepare an Environmental Impact Statement/Environmental Impact Report.

SUMMARY: Pursuant to the National Environmental Policy Act of 1969 as amended, Reclamation proposes to participate in a joint Environmental Impact Statement/Environmental Impact Report (EIS/EIR) on the Freeport Regional Water Project (FRWP). The FRWP is being proposed by the Freeport Regional Water Authority (FRWA), a joint powers agency formed by the Sacramento County Water Agency (SCWA) and East Bay Municipal Utility District (EBMUD) to make use of Central Valley Project (CVP) contract and other water supplies, reduce rationing during droughts, reduce groundwater overdraft in Sacramento County, and to increase water service reliability for customers. The FRWP would enable Reclamation to meet delivery obligations under its water supply contracts with SCWA and EBMUD. The FRWA will be the lead agency under the California Environmental Quality Act (CEQA). The City of Sacramento will serve as a responsible agency under CEQA.

DATES: Reclamation and the Joint Powers Authority will seek public input on alternatives, concerns, and issues to be addressed in the EIS/EIR through scoping meetings in March. The schedule and locations of the scoping meetings are as follows:

• Monday, April 8, 2002, 6:30-8:30 p.m, Oakland, CA

• Thursday, April 11, 2002, 6:30-8:30 p.m., Sacramento, CA (Freeport)

• Monday, April 15, 2002, 6:30-8:30 p.m., Sacramento, CA (Meadowview)

• Thursday, April 18, 2002, 6:30-8:30 p.m, Herald, CA

Written comments on the scope of alternatives and impacts to be considered should be sent to the Freeport Regional Water Project at the address below by May 2, 2002. Reclamation estimates that the draft EIS/EIR will be available for public review in the summer of 2002.

ADDRESSES: The meeting locations are:

• Oakland at the EBMUD Training Room, 375 11th Street, 2nd Floor

• Sacramento at the Bartley Cavanaugh Golf Course, 8301 Freeport Boulevard

• Sacramento at the Meadowview Community Center, 2450 Meadowview Road

• Herald at the Herald Fire Department, Hendrickson Hall, 127 Ivie Road

Written comments on the project scope should be sent to Freeport Regional Water Project, c/o Gregg Ellis, 2600 V Street, Sacramento, CA 95818.

FOR FURTHER INFORMATION CONTACT: Rob Schroeder at 7794 Folsom Dam Road, Folsom California, 95630, telephone number (916) 989-7274.

SUPPLEMENTARY INFORMATION: SCWA provides water to two separate retail service areas within the unincorporated areas of central Sacramento County, SCWA Zone 41, and Elk Grove Water Service on the east side of the City of Elk Grove. SCWA is responsible for providing water supplies and facilities throughout these areas including the Laguna, Vineyard, Elk Grove and Mather Field communities through a capital funding zone known as “Zone 40”. The long-term master plan for Zone 40 envisions meeting present and future water needs through a program of conjunctive use of groundwater and surface water. SCWA presently has a CVP entitlement of 22,000 acre-feet. Water for SCWA is currently delivered through the City of Sacramento's intake and treatment facilities, based on SCWA need and available City capacity. These and additional water supplies are expected to be conveyed through the FRWP.

EBMUD is a multipurpose regional agency that provides water to over 1.3 million municipal and industrial water users throughout portions of Contra Costa and Alameda Counties in the East Bay region. EBMUD currently obtains most of its supply from Pardee Reservoir on the Mokelumne River, with the remainder collected from local runoff in its East Bay terminal reservoirs. On July 26, 2001, EBMUD and Reclamation entered into an amendatory CVP contract which allows EBMUD to take delivery of its CVP supply at the location known as Freeport on the Sacramento River south of downtown Sacramento subject to all applicable environmental laws and regulations.

The FRWP is intended by the Joint Powers Authority to meet the identified water delivery needs of the SCWA and EBMUD. It would also enable Reclamation to meet its CVP water delivery obligations to these agencies under existing water supply contracts with EBMUD and SCWA.

The general purposes of the Freeport Regional Water Project are to:

• Provide surface water facilities through which SCWA can deliver water to Zone 40 to support growth approved under the County of Sacramento General Plan. Water would be delivered under SCWA's CVP water supply contract with Reclamation and other anticipated CVP contract assignments, appropriated water rights, and water rights transfers;

• Provide surface water facilities through which EBMUD can deliver water under its amendatory CVP water service contract to provide EBMUD with a supplemental water supply that would reduce existing and future customer deficiencies to manageable levels during drought conditions; and

• Capitalize on the opportunity to cooperate in an endeavor that would minimize costs to each agency and minimize environmental effects by constructing joint facilities to the extent feasible.

The FRWP would also enable Reclamation to deliver water under its CVP amendatory contract with EBMUD and its contract with SCWA.

The FRWP as currently envisioned would consist of:

• An approximately 185 million gallon per day (mgd) intake/pumping facility

• A raw water pipeline to a turnout at approximately Bradshaw Road in central Sacramento County,

• A new water treatment plant in central Sacramento County to serve SCWA needs,

• A raw water pipeline connecting to the Folsom South Canal,

• A new pumping plant near the end of the Folsom South Canal,

• A pipeline from the Folsom South Canal to the Mokelumne Aqueducts,

• A new pumping and treatment facility at the Mokelumne Aqueducts to deliver water to EBMUD.

The EIS/EIR will consider a range of alternatives including the no-action alternative.

Scoping is an early and open process designed to determine the issues and alternatives to be addressed in the EIS/EIR. The following are issues that have been identified by Reclamation to date: Sacramento River fishery effects; water quality; agricultural and municipal water supply availability, and quality; construction-related effects on the Sacramento River, urban areas, and natural habitats; and, wetland, upland, and aquatic habitats.

The draft EIS/EIR will focus on the impacts and benefits of implementing the various alternatives. It will contain an analysis of the physical, biological, social, and economic impacts arising from the alternatives. In addition, it will address the cumulative impacts of implementation of the alternatives in conjunction with other past, present, and reasonably foreseeable actions.

If special assistance is required, contact Mr. Robert Schroeder at Reclamation (916) 989-7274. Please notify Mr. Schroeder as far in advance of the workshops as possible to enable Reclamation to secure the needed services. If a request cannot be honored, the requestor will be notified. A telephone device for the hearing impaired (TDD) is available at (916) 989-7285.

Our practice is to make comments, including names and home addresses of respondents, available for public review. Individual respondents may request that we withhold their home address from public disclosure, which we will honor to the extent allowable by law. There also may be circumstances in which we would withhold a respondent's identity from public disclosure, as allowable by law. If you wish us to withhold your name and/or address, you must state this prominently at the beginning of your comment. We will make all submissions from organizations or businesses, and from individuals identifying themselves as representatives or officials of organizations or businesses, available for public disclosure in their entirety.

Dated: February 20, 2002.
Frank Michny,
Regional Environmental Officer.

[FR Doc. 02-7065 Filed 3-22-02; 8:45 am]

BILLING CODE 4310-MN-P